DEPARTMENT OF HOMELAND SECURITY

Coast Guard

33 CFR Part 165

[Docket Number USCG-2024-0994]

RIN 1625-AA87

Security Zone; Electric Boat Shipyard, Narragansett Bay, Quonset Point, North Kingstown, RI

AGENCY: Coast Guard, DHS.

ACTION: Notice of proposed rulemaking.

SUMMARY: The Coast Guard is proposing to establish a security zone in the waters adjacent to the General Dynamics Electric Boat Corporation Quonset Point facility in Narragansett Bay, North Kingstown, RI. This action is necessary to protect the facility, material storage areas, and adjacent areas from sabotage or other subversive acts, accidents or incidents of a similar nature. This proposed rulemaking would prohibit all persons and vessels from operating within the prescribed security zone without first obtaining authorization by the Captain of the Port, Sector Southeastern New England or a designated representative. We invite your comments on this proposed rulemaking.

DATES: Comments and related material must be received by the Coast Guard on or before May 27, 2025.

ADDRESSES: You may submit comments identified by docket number USCG-2024-0994 using the Federal Decision-Making Portal at https://www.regulations.gov. See the “Public Participation and Request for Comments” portion of the SUPPLEMENTARY INFORMATION section for further instructions on submitting comments. This notice of proposed rulemaking with its plain-language, 100-word-or-less proposed rule summary will be available in this same docket.

FOR FURTHER INFORMATION CONTACT: If you have questions about this proposed rulemaking, call or email Marine Science Technician 2nd Class Nicholas Easley, Waterways Management Division, Sector Southeastern New England, U.S. Coast Guard; telephone 206-827-4160, email Nicholas.S.Easley@uscg.mil.

SUPPLEMENTARY INFORMATION:

I. Table of Abbreviations

CFR Code of Federal Regulations

COTP Captain of the Port, Sector Southeastern New England

DHS Department of Homeland Security

FR Federal Register

NPRM Notice of proposed rulemaking

§ Section

U.S.C. United States Code

II. Background, Purpose, and Legal Basis

On August 29, 2024, the U.S. Navy submitted a formal request to the Coast Guard to establish a security zone in the waters adjacent to the General Dynamics Electric Boat Corporation Quonset Point facility in North Kingstown, RI. As a vital part of the U.S. Navy submarine production, the General Dynamics Electric Boat Corporation Quonset Point facility in North Kingstown, RI, relies upon the timely availability of industrial resources to meet national defense and emergency preparedness requirements. The Captain of the Port, Sector Southeastern New England (COTP) has determined that it is in the best interest of national security to establish a permanent security zone to protect the facility, material storage areas, and adjacent areas from sabotage or other subversive acts, accidents or incidents of a similar nature, and to specify the horizontal datum employed to describe the geographic coordinates that establish the zone boundaries. The purpose of this rulemaking is to defend against gaining access for intelligence and hostile purposes.

The Coast Guard may issue security zone regulations under authority in 46 U.S.C. 70051 and 70124.

III. Discussion of Proposed Rule

The Coast Guard proposes to establish a security zone to protect the General Dynamics Electric Boat Corporation Quonset Point facility, material storage areas, and adjacent areas from sabotage or other subversive acts, accidents or incidents of a similar nature. It would include a portion of the navigable waters on Narraganset Bay adjacent to the facility in North Kingstown, RI. The security zone would include all navigable waters of Narragansett Bay, from surface to bottom, south of Quonset Point, North Kingstown, RI, in an area depicted in the below chartlet. The horizontal datum employed to describe the geographic coordinates that establish the zone boundaries are provided in the draft rule provided at the end of this article.

BILLING CODE 9110-04-P

IV. Regulatory Analyses

We developed this proposed rule after considering numerous statutes and Executive orders related to rulemaking. Below we summarize our analyses based on a number of these statutes and Executive orders, and we discuss First Amendment rights of protestors.

A. Regulatory Planning and Review

Executive Orders 12866 and 13563 direct agencies to assess the costs and benefits of available regulatory alternatives and, if regulation is necessary, to select regulatory approaches that maximize net benefits. This NPRM has not been designated a “significant regulatory action,” under section 3(f) of Executive Order 12866. Accordingly, the NPRM has not been reviewed by the Office of Management and Budget (OMB).

This regulatory action determination is based on the size and location of the security zone. Vessel traffic would be able to safely transit around the security zone, which would only impact a small, designated area of the Narragansett Bay.

B. Impact on Small Entities

The Regulatory Flexibility Act of 1980, 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard certifies under 5 U.S.C. 605(b) that this proposed rule would not have a significant economic impact on a substantial number of small entities.

While some owners or operators of vessels intending to transit the security zone may be small entities, for the reasons stated in section IV.A above, this proposed rule would not have a significant economic impact on any vessel owner or operator.

If you think that your business, organization, or governmental jurisdiction qualifies as a small entity and that this proposed rule would have a significant economic impact on it, please submit a comment (see ADDRESSES) explaining why you think it qualifies and how and to what degree this rule would economically affect it.

Under section 213(a) of the Small Business Regulatory Enforcement Fairness Act of 1996 (Pub. L. 104-121), we want to assist small entities in understanding this proposed rule. If the proposed rule would affect your small business, organization, or governmental jurisdiction and you have questions concerning its provisions or options for compliance, please call or email the person listed in the FOR FURTHER INFORMATION CONTACT section. The Coast Guard will not retaliate against small entities that question or complain about this proposed rule or any policy or action of the Coast Guard.

C. Collection of Information

This proposed rule would not call for a new collection of information under the Paperwork Reduction Act of 1995 (44 U.S.C. 3501-3520).

D. Federalism and Indian Tribal Governments

A rule has implications for federalism under Executive Order 13132 (Federalism), if it has a substantial direct effect on the States, on the relationship between the National Government and the States, or on the distribution of power and responsibilities among the various levels of government. We have analyzed this proposed rule under that Order and have determined that it is consistent with the fundamental federalism principles and preemption requirements described in Executive Order 13132.

Also, this proposed rule does not have tribal implications under Executive Order 13175 (Consultation and Coordination with Indian Tribal Governments) because it would not have a substantial direct effect on one or more Indian tribes, on the relationship between the Federal Government and Indian tribes, or on the distribution of power and responsibilities between the Federal Government and Indian tribes. If you believe this proposed rule has implications for federalism or Indian tribes, please call or email the person listed in the FOR FURTHER INFORMATION CONTACT section.

E. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this proposed rule would not result in such an expenditure, we do discuss the potential effects of this proposed rule elsewhere in this preamble.

F. Environment

We have analyzed this proposed rule under Department of Homeland Security Directive 023-01, Rev. 1, associated implementing instructions, and Environmental Planning COMDTINST 5090.1 (series), which guide the Coast Guard in complying with the National Environmental Policy Act of 1969 (42 U.S.C. 4321-4370f), and have made a preliminary determination that this action is one of a category of actions that do not individually or cumulatively have a significant effect on the human environment. This proposed rule involves a security zone to limit access near Quonset Point, North Kingstown, RI. Normally such actions are categorically excluded from further review under paragraph L60(a) of Appendix A, Table 1 of DHS Instruction Manual 023-01-001-01, Rev. 1. A preliminary Record of Environmental Consideration supporting this determination is available in the docket. For instructions on locating the docket, see the ADDRESSES section of this preamble. We seek any comments or information that may lead to the discovery of a significant environmental impact from this proposed rule.

V. Public Participation and Request for Comments

We view public participation as essential to effective rulemaking and will consider all comments and material received during the comment period. Your comment can help shape the outcome of this rulemaking. If you submit a comment, please include the docket number for this rulemaking, indicate the specific section of this document to which each comment applies, and provide a reason for each suggestion or recommendation.

Submitting comments. We encourage you to submit comments through the Federal Decision-Making Portal at https://www.regulations.gov. To do so, go to https://www.regulations.gov, type USCG-2024-0994 in the search box and click “Search.” Next, look for this document in the Search Results column, and click on it. Then click on the Comment option. If you cannot submit your material by using https://www.regulations.gov, call or email the person in the FOR FURTHER INFORMATION CONTACT section of this proposed rule for alternate instructions.

Viewing material in docket. To view documents mentioned in this proposed rule as being available in the docket, find the docket as described in the previous paragraph, and then select “Supporting & Related Material” in the Document Type column. Public comments will also be placed in our online docket and can be viewed by following instructions on the https://www.regulations.gov Frequently Asked Questions web page. Also, if you click on the Dockets tab and then the proposed rule, you should see a “Subscribe” option for email alerts. The option will notify you when comments are posted, or a final rule is published.

We review all comments received, but we will only post comments that address the topic of the proposed rule. We may choose not to post off-topic, inappropriate, or duplicate comments that we receive.

Personal information. We accept anonymous comments. Comments we post to https://www.regulations.gov will include any personal information you have provided. For more about privacy and submissions to the docket in response to this document, see DHS's eRulemaking System of Records notice (85 FR 14226, March 11, 2020).

List of Subjects in 33 CFR Part 165

Harbors, Marine safety, Navigation (water), Reporting and recordkeeping requirements, Security measures, Waterways.

For the reasons discussed in the preamble, the Coast Guard is proposing to amend 33 CFR part 165 as follows:

PART 165—REGULATED NAVIGATION AREAS AND LIMITED ACCESS AREAS

1. The authority citation for part 165 is revised to read as follows:

Authority: 46 U.S.C. 70034, 70051; 33 CFR 1.05-1, 6.04-1, 6.04-6 and 160.5; Department of Homeland Security Delegation No. 0170.1, Revision No. 01.4.

2. Add § 165.124 to read as follows:

§ 165.124 Security Zone; Electric Boat Shipyard, Narragansett Bay, Quonset Point, North Kingstown, RI.

(a) Location. The following area is a security zone: All navigable waters of Narragansett Bay, from surface to bottom, South of Quonset Point, North Kingstown, RI, enclosed by a line beginning at a point on the shoreline at 41°35′06.3″ N, 71°25′33.2″ W; then to 41°34′59.6″ N, 71°25′20.5″ W; then to 41°35′01.0″ N, 71°25′08.7″ W; then to 41°35′08.7″ N, 71°25′08.7″ W; then along the shoreline to the point of beginning. These coordinates are based on North American Datum of 1983.

(b) Definitions. As used in this section, vessel means every description of watercraft or other artificial contrivance used, or capable of being used, as a means of transportation on water, except vessels of the Armed Forces, as defined at 14 U.S.C. 527(e).

(c) Regulations. (1) Under the general security zone regulations in subpart D of this part, no person or vessel may enter or remain in the security zone described in paragraph (a) of this section without the permission of the Captain of the Port, other than vessels of the Armed Forces, U.S. Government-owned vessels or vessels owned by, under hire to, or performing work for, the Electric Boat Division when operating in the security zone.

(2) This security zone is closed to all vessel traffic, except as may be permitted by the Captain of the Port (COTP) or a designated representative. Vessel operators given permission to enter or operate in the security zones must comply with all directions given to them by the COTP or the designated representative.

(3) The “designated representative” is any Coast Guard commissioned, warrant or petty officer who has been designated by the Captain of the Port to act on his/her behalf. The on-scene representative may be on a Coast Guard vessel, a state or local law enforcement vessel, or other designated craft, or may be on shore and will communicate with vessels via VHF-FM radio or loudhailer. In addition, members of the Coast Guard Auxiliary may be present to inform vessel operators of this regulation.

(4) Vessel operators desiring to enter or operate within the security zones shall request permission to do so by contacting the Coast Guard Sector Southeastern New England Command Center at 866-819-9128, or via VHF Channel 16.

Y. Moon,
Captain, U.S. Coast Guard, Captain of the Port, Sector Southeastern New England.

[FR Doc. 2025-07067 Filed 4-24-25; 8:45 am]

BILLING CODE 9110-04-C